DEPARTMENT OF THE TREASURY

Internal Revenue Service

26 CFR Part 1

[REG-125626-01]

RIN 1545-BA25

Unit Livestock Price Method; Hearing Cancellation

AGENCY: Internal Revenue Service (IRS), Treasury.

ACTION: Cancellation of notice of public hearing on proposed rulemaking.

SUMMARY: This document provides notice of cancellation of a public hearing on proposed regulations under section 471 of the Internal Revenue Code.

DATES: The public hearing originally scheduled for June 12, 2002, at 10 a.m., is cancelled.

FOR FURTHER INFORMATION CONTACT: Treena Garrett of the Regulations Unit, Associate Chief Counsel (Income Tax and Accounting), (202) 622-7180 (not a toll-free number).

SUPPLEMENTARY INFORMATION: A notice of proposed rulemaking and notice of public hearing that appeared in the Federal Register on February 4, 2002, (67 FR 5074), announced that a public hearing was scheduled for June 12, 2002, at 10 a.m., in room 4716, Internal Revenue Service Building, 1111 Constitution Avenue, NW, Washington, DC. The subject of the public hearing is proposed regulations under section 471 of the Internal Revenue Code. The public comment period for these proposed regulations expired on May 6, 2002.

The notice of proposed rulemaking and notice of public hearing, instructed those interested in testifying at the public hearing to submit a request to speak and an outline of the topics to be addressed. As of May 22, 2002, no one has requested to speak. Therefore, the public hearing scheduled for June 12, 2002, is cancelled.

Cynthia E. Grigsby,
Chief, Regulations Unit, Associate Chief Counsel, (Income Tax and Accounting).

[FR Doc. 02-13847 Filed 5-31-02; 8:45 am]

BILLING CODE 4830-01-P